ENVIRONMENTAL PROTECTION AGENCY

40 CFR Part 300

[FRL-7799-2]

National Oil and Hazardous Substance Pollution Contingency Plan National Priorities List

AGENCY: Environmental Protection Agency.

ACTION: Notice of Intent to Delete the San Fernando Valley Basin Area 3, Verdugo Study Area Superfund Site from the National Priorities List (NPL).

SUMMARY: The Environmental Protection Agency (EPA) Region IX is publishing this Notice of Intent to Delete the San Fernando Valley Basin Area 3, Verdugo Study Area Superfund Site (Site) from the National Priorities List (NPL), and requests public comments on this action. The Site is in the eastern portion of the San Fernando Valley Basin in Los Angeles, California.

The NPL, promulgated pursuant to section 105 of the Comprehensive Environmental Response, Compensation, and Liability Act (CERCLA) of 1980, as amended, is found at Appendix B of 40 CFR part 300, the National Oil and Hazardous Substances Pollution Contingency Plan (NCP). The NCP sets criteria that must be met to delete a site from the NPL. EPA, in consultation with the State of California, has determined that the Site meets the following criterion for site deletion: “The remedial investigation has shown that the release poses no significant threat to public health or the environment, and, therefore, taking of remedial measures is not appropriate.” However, this deletion does not preclude future actions under Superfund, based on new information or conditions.

In the Rules and Regulations section of today's Federal Register, we are concurrently publishing a Direct Final Notice of Deletion for the Site, because we view this as a noncontroversial action and anticipate no adverse comments. This is a streamlined approach for site deletion. We have provided further information on the Site and explained our reasons for this deletion in Section IV. of the Direct Final Notice of Deletion.

If we receive no adverse comment(s) on this Notice of Intent to Delete or the Direct Final Notice of Deletion, the deletion will become final 30 days after the end of the public comment period. If we receive adverse comment(s), we will publish a timely withdrawal of the Direct Final Notice of Deletion before it takes effect. We will, as appropriate, prepare a Responsiveness Summary to address public comments and continue with the deletion process on the basis of the Notice of Intent to Delete and the comments already received. There will not be another comment period on the Notice of Intent to Delete/Direct Final Notice of Deletion. Any parties interested in commenting must do so at this time.

DATES: Comments concerning deletion of this Site must be received by September 9, 2004.

ADDRESSES: Written comments should be addressed to Jackie Lane, Community Involvement Coordinator, U.S. EPA Region IX (SFD-3), 75 Hawthorne Street, San Francisco, California 94105, (415) 972-3236.

FOR FURTHER INFORMATION CONTACT: Charnjit Bhullar, Remedial Project Manager, U.S. EPA Region IX (SFD 7-1), 75 Hawthorne Street, San Francisco, California 94105, (415) 972-3960.

SUPPLEMENTARY INFORMATION: For additional Site information, see the Direct Final Notice of Deletion which is located in the Rules and Regulations section of this Federal Register.

Information Repositories: Information supporting the deletion is available in the Deletion Docket at the EPA Region IX Records Center and at the Information Repositories. The Information Repositories have been established to provide comprehensive Site related information, at the following addresses:

U.S. EPA Superfund Record Center, 95 Hawthorne Street, San Francisco, California 94105-3901, (415) 536-2000.

La Canada Library, 4545 Oakwood Ave., La Canada CA 91011, (818) 952-0603.

Los Angeles Department of Water and Powers, 111 North Hope Street, Rm. 516, Los Angeles, CA 90012 (213) 367-1995.

Glendale Public Library, 222 East Harvard Street, Glendale, CA 91205, (818) 548-2021.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(c)(2); 42 U.S.C. 9601-9657; E.O. 12777, 56 FR 54757, 3 CFR, 1991 Comp., p. 351; E.O. 12580, 52 FR 2923; 3 CFR, 1987 Comp., p. 193.

Dated: July 29, 2004.
Keith Takata,
Acting Regional Administrator, Region IX.

[FR Doc. 04-18141 Filed 8-9-04; 8:45 am]

BILLING CODE 6560-50-P